DEPARTMENT OF THE INTERIOR

Bureau of Land Management

[LLNVS00560.L58530000.ES0000 241A; N-80113; 11-08807; MO#4500020397;TAS 14X5232]

Notice of Realty Action: Recreation and Public Purposes Lease Partial Change of Use of Public Lands in Clark County, NV

AGENCY: Bureau of Land Management, Interior.

ACTION: Notice of realty action.

SUMMARY: Recreation and Public Purposes (R&PP) Act request to change the use of a portion of a previously approved lease in the City of North Las Vegas, Clark County, Nevada. The city proposes to change the use of 10 acres from a public park and police substation to a safety village.

DATES: Interested parties may submit written comments regarding the proposed change of use of the lands until July 1, 2011.

ADDRESSES: Send written comments to the BLM Field Manager, Las Vegas Field Office, 4701 N. Torrey Pines Drive, Las Vegas, Nevada 89130, or e-mail: ddickey@blm.gov.

FOR FURTHER INFORMATION CONTACT: Dorothy Jean Dickey, (702) 515-5119, or ddickey@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: A notice was previously published in the Federal Register on October 16, 2007, (72 FR 58682) segregating approximately 41.48 acres of public land for a park site and police substation under the R&PP Act. The lease was issued to the city on April 8, 2008. The city wants to change the use of the northwest 10 acres of the site to a safety, training and rescue skills area called Northern Safety Training and Rescue Skills (STARS) Village. The remaining 31.48 acres of land is still being used as a park and police substation. The parcel of land is legally described as:

Mount Diablo Meridian, Nevada

T. 19 S., R. 61 E., sec. 24, Lot 12 (within).

The change of use area described contains 10 acres, more or less. This description will be refined upon final approval of the official plat of survey.

The city filed an R&PP application to change the use and to develop the above described land as a Northern STARS Village with related facilities. Related facilities include: Amphitheater, picnic area, educational fire fighters park, education classrooms, education auditorium, administration building, garage, swimming pool and parking area. The mission of the Northern STARS Village is to provide state-of-the-art, hands-on, and life-safety programs such as bicycle safety, emergency services, fire safety and prevention, injury prevention for seniors, internet safety, motor vehicle safety, pedestrian safety, rules of the road, and water safety. Additional detailed information pertaining to this application, plan of development, and site plan is in case file N-80113, which is located in the BLM Las Vegas Field Office at the above address.

The city is a political subdivision of the State of Nevada and is therefore a qualified applicant under the R&PP Act.

The change of use of the public land shall be subject to valid existing rights as previously published. Subject to limitations prescribed by law and regulation, prior to patent issuance, a holder of any right-of-way within the lease area may be given the opportunity to amend the right-of-way for conversion to a new term, including perpetuity, if applicable.

Interested parties may submit written comments regarding the specific use proposed in the application and plan of development or any other factor not directly related to the suitability of the land for a Northern STARS Village. Any adverse comments will be reviewed by the BLM Nevada State Director, who may sustain, vacate, or modify this realty action. In the absence of any adverse comments, this realty action will become the final determination of the Department of the Interior and will become effective on July 18, 2011. The lands will not be available as a Northern STARS Village until after the decision becomes effective.

Before including your address, phone number, e-mail address, or other personal identifying information in your comment, you should be aware that your entire comment—including your personal identifying information—may be made publicly available at any time. While you can ask us in your comment to withhold your personal identifying information from public review, we cannot guarantee that we will be able to do so. Only written comments submitted to the Field Manager, BLM Las Vegas Field Office, or by e-mail at the addresses above will be considered properly filed. Any adverse comments will be reviewed by the BLM Nevada State Director.

Authority: 43 CFR part 2741.

Beth Ransel,
Acting Assistant Field Manager, Division of Lands.

[FR Doc. 2011-12035 Filed 5-16-11; 8:45 am]

BILLING CODE 4310-HC-P